DEPARTMENT OF TRANSPORTATION

Federal Aviation Administration

14 CFR Part 39

[Docket No. FAA-2011-0567; Directorate Identifier 2010-NM-272-AD; Amendment 39-17218; AD 2012-21-02]

RIN 2120-AA64

Airworthiness Directives; The Boeing Company Airplanes

AGENCY: Federal Aviation Administration (FAA), DOT.

ACTION: Final rule.

SUMMARY: We are adopting a new airworthiness directive (AD) for certain The Boeing Company Model 767-200, -300, -300F, and -400ER series airplanes. This AD was prompted by a design review following a ground fire incident and reports of flammable fluid leaks from the wing leading edge area onto the engine exhaust area. This AD requires modification of the fluid drain path in the leading edge area of the wing. We are issuing this AD to prevent flammable fluid from leaking onto the engine exhaust nozzle, which could result in a fire.

DATES: This AD is effective November 27, 2012.

The Director of the Federal Register approved the incorporation by reference of certain publications listed in the AD as of November 27, 2012.

ADDRESSES: For service information identified in this AD, contact Boeing Commercial Airplanes, Attention: Data & Services Management, P.O. Box 3707, MC 2H-65, Seattle, WA 98124-2207; phone: 206-544-5000, extension 1; fax: 206-766-5680; Internet: https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Tung Tran, Aerospace Engineer, Propulsion Branch, ANM-140S, Seattle Aircraft Certification Office (ACO), FAA, 1601 Lind Avenue SW., Renton, WA 98057-3356; phone: 425-917-6505; fax: 425-917-6590; email: Tung.Tran@faa.gov.

SUPPLEMENTARY INFORMATION:

Discussion

We issued a Notice of Proposed Rulemaking (NPRM) to amend 14 CFR part 39 to include an AD that would apply to the specified products. That NPRM published in the Federal Register on June 15, 2011 (76 FR 34918). That NPRM proposed to require modifying the fluid drain path in the leading edge area of the wing.

Comments

We gave the public the opportunity to participate in developing this AD. The following presents the comments received on the proposal (76 FR 34918, June 15, 2011) and the FAA's response to each comment.

Support for Proposed Rule (76 FR 34918, June 15, 2011)

Continental Airlines (Continental) stated it agrees with the intent of the proposed rule (76 FR 34918, June 15, 2011).

Requests To Incorporate New Information Notice and Clarify Certain Service Information

Delta Airlines (Delta), American Airlines (American), and Continental requested that we incorporate Boeing Service Bulletin Information Notice 767-57-0121 IN 01, dated March 3, 2011, into the NPRM (76 FR 34918, June 15, 2011). American justified its request by stating this information notice addresses information critical to the correct application of sealant, and, if this information notice is not incorporated by reference in the AD, the modification addressed in Boeing Special Attention Service Bulletin 767-57-0121, dated October 7, 2010, will be incomplete and incorrect. Continental justified its request by stating this information notice corrects and clarifies certain instructions of Boeing Special Attention Service Bulletin 767-57-0121, dated October 7, 2010. Air New Zealand requested clarification of exactly where the sealant specified in steps 7 and 8 of Figures 11 and 12 is to be applied.

Boeing has requested that we allow the use of Boeing Special Attention Service Bulletin 767-57-0121, Revision 1, dated July 27, 2011. Boeing Special Attention Service Bulletin 767-57-0121, Revision 1, dated July 27, 2011, as revised by Boeing Special Attention Service Bulletin 767-57-0121, Revision 2, dated January 10, 2012, includes the information contained in Boeing Service Bulletin Information Notice 767-57-0121 IN 01, dated March 3, 2011.

We agree to incorporate the content of Boeing Service Bulletin Information Notice 767-57-0121 IN 01, dated March 3, 2011, into this final rule. This information notice addresses information critical to the correct application of sealant to the wing ribs. We have changed paragraph (g) of this AD to refer to Boeing Special Attention Service Bulletin 767-57-0121, Revision 1, dated July 27, 2011, as revised by Boeing Special Attention Service Bulletin 767-57-0121, Revision 2, dated January 10, 2012. We also have added paragraph (h) of this AD to give credit for modifications of the fluid drain path in the leading edge area of the wing, if those actions were accomplished before the effective date of this AD using Boeing Special Attention Service Bulletin 767-57-0121, dated October 7, 2010. We have changed the subsequent paragraph designations accordingly.

Request To Withdraw the NPRM (76 FR 34918, June 15, 2011)

UPS requested that we withdraw the NPRM (76 FR 34918, June 15, 2011) and allow compliance with the actions in AD 2011-03-15, Amendment 39-16599 (76 FR 8615, February 15, 2011) to address the identified unsafe condition addressed in the NPRM. AD 2011-03-15 requires inspecting for correct main track downstop assembly, thread protrusion, damaged and missing parts of the main track downstop assemblies of the outboard slats for foreign objects, debris, and damage to the wall of the track housing of the outboard slats, and corrective actions if necessary for certain Model 767 series airplanes. UPS justified its request by stating that Boeing Special Attention Service Bulletin 767-57-0118, Revision 1, dated October 21, 2010, which is referred to in AD 2011-03-15, requires checking all the slat track stop bolts and slat track housings for debris and correcting any discrepancies found, which will correct the unsafe condition addressed by the NPRM. UPS also stated concern that the modification required by the NPRM will not address any or all fuel leaking along the leading edge of the wing for Model 767 airplanes, because Boeing Special Attention Service Bulletin 767-57-0121, dated October 7, 2010, was written to change the drain path, but was based on a specific incident for Model 737 airplane wings. UPS stated the modification based on the single incident cannot ensure that all flammable fuel leaks on Model 767 airplanes will be addressed by the modification specified in the NPRM.

We disagree with the request to withdraw the NPRM (76 FR 34918, June 15, 2011). AD 2011-03-15, Amendment 39-16599 (76 FR 8615, February 15, 2011), was issued to address the potential of foreign object damage or slat track stop bolts coming loose in the slat track housings, which could cause a puncture in the track housing when the slat is retracted, and a consequent fuel leak. The NPRM addressed a wing leading edge drain hole that is located close to the engine nozzle such that a fuel leak from any cause, not just from a slat track housing leak, is drained directly on the engine exhaust nozzle and could cause a fuel fire. Accomplishing the actions of AD 2011-03-15 does not remove the risk caused by the drain hole that is addressed by this final rule. We have not changed the final rule in this regard.

Requests To Require New Part Numbers for All Modified Parts

Continental and Delta requested that parts modified by accomplishment of Boeing Special Attention Service Bulletin 767-57-0121, dated October 7, 2010, be identified with new part numbers. Continental justified its request by stating that the new part numbers are needed to prevent the potential of unmodifying a modified airplane in the future by purchasing and installing an unmodified wing panel on that airplane. Delta justified its request by stating that the lack of configuration control in that service bulletin leaves the entire industry at a risk for de-modification. Swapping access panels between airplanes, which is common during C-checks, could create a non-compliance situation if one airplane has been modified and the other has not.

We partially agree. We agree with the intent of this request because it prevents a situation where unmodified non-compliant parts are installed unintentionally due to a lack of configuration control. We disagree with the commenters' request for new part numbers to be assigned to all modified parts, because there are no production equivalent parts for these retrofitted parts. Therefore, we cannot use the production part numbers to identify the parts modified per Boeing Special Attention Service Bulletin 767-57-0121, dated October 7, 2010. However, we have changed paragraph (g) of this final rule to require actions to be done in accordance with Boeing Special Attention Service Bulletin 767-57-0121, Revision 1, dated July 27, 2011, as revised by Boeing Special Attention Service Bulletin 767-57-0121, Revision 2, dated January 10, 2012, which includes part marking instructions for seal doors, wing panels, and ribs to identify that the part was modified per this service information.

Request To Approve Delegation of Alternative Methods of Compliance (AMOCs)

Boeing requested paragraph (h) of the NPRM (76 FR 34918, June 15, 2011) be changed to allow Boeing authority to approve AMOCs under the Boeing Commercial Airplanes Organization Designation Authorization (ODA). Boeing justified its request by stating that it anticipates repairs will be required to panel and ribs etc., when Boeing Special Attention Service Bulletin 767-57-0121, dated October 7, 2010, is embodied, and it would be beneficial if the Boeing ODA is authorized to approve these repairs.

We agree with the request to delegate structural AMOC approval to the Boeing ODA, because we believe that the Boeing ODA will be effective at making those findings. We have added new paragraph (i)(3) to the final rule to delegate structural AMOC approval to the Boeing ODA.

Change to Proposed Applicability

We have changed paragraph (c) of this final rule to refer to airplanes identified in Boeing Special Attention Service Bulletin 767-57-0121, Revision 1, dated July 27, 2011.

Conclusion

We reviewed the relevant data, considered the comments received, and determined that air safety and the public interest require adopting the AD with the changes described previously and minor editorial changes. We have determined that these minor changes:

• Αre consistent with the intent that was proposed in the NPRM (76 FR 34918, June 15, 2011) for correcting the unsafe condition; and

• Do not add any additional burden upon the public than was already proposed in the NPRM (76 FR 34918, June 15, 2011).

We also determined that these changes will not increase the economic burden on any operator or increase the scope of the AD.

Costs of Compliance

We estimate that this AD affects 361 airplanes of U.S. registry.

We estimate the following costs to comply with this AD:

Estimated Costs
Action | Labor cost | Parts cost | Cost per product | Cost on U.S. operators
Leading edge fluid drainage modification | 22 work-hours × $85 per hour = $1,870 | $651 | $2,521 | $910,081

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-21-02 The Boeing Company: Amendment 39-17218; Docket No. FAA-2011-0567; Directorate Identifier 2010-NM-272-AD.

(a) Effective Date

This AD is effective November 27, 2012.

(b) Affected ADs

None.

(c) Applicability

This AD applies to The Boeing Company Model 767-200, -300, -300F, and -400ER series airplanes, certificated in any category, as identified in Boeing Special Attention Service Bulletin 767-57-0121, Revision 1, dated July 27, 2011.

(d) Subject

Joint Aircraft System Component (JASC)/Air Transport Association (ATA) of America Code 57, Wings.

(e) Unsafe Condition

This AD was prompted by a design review following a ground fire incident and reports of flammable fluid leaks from the wing leading edge area onto the engine exhaust area. We are issuing this AD to prevent flammable fluid from leaking onto the engine exhaust nozzle, which could result in a fire.

(f) Compliance

Comply with this AD within the compliance times specified, unless already done.

(g) Drain Path Modification

Within 60 months after the effective date of this AD, modify the fluid drain path in the leading edge area of the wing, in accordance with the Accomplishment Instructions of Boeing Special Attention Service Bulletin 767-57-0121, Revision 1, dated July 27, 2011, as revised by Boeing Special Attention Service Bulletin 767-57-0121, Revision 2, dated January 10, 2012.

(h) Credit for Previous Actions

This paragraph provides credit for the modification required by paragraph (g) of this AD, if that modification was performed before the effective date of this AD using Boeing Special Attention Service Bulletin 767-57-0121, dated October 7, 2010, which is not incorporated by reference in this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(j) Related Information

(1) For more information about this AD, contact Tung Tran, Aerospace Engineer, Propulsion Branch, ANM-140S, Seattle Aircraft Certification Office (ACO), FAA, 1601 Lind Avenue SW., Renton, WA 98057-3356; phone: 425-917-6505; fax: 425-917-6590; email: Tung.Tran@faa.gov.

(2) For service information identified in this AD, contact Boeing Commercial Airplanes, Attention: Data & Services Management, P.O. Box 3707, MC 2H-65, Seattle, WA 98124-2207; phone: 206-544-5000, extension 1; fax: 206-766-5680; Internet: https://www.myboeingfleet.com.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 767-57-0121, Revision 1, dated July 27, 2011.

(ii) Boeing Special Attention Service Bulletin 767-57-0121, Revision 2, dated January 10, 2012.

(3) For service information identified in this AD contact, Boeing Commercial Airplanes, Attention: Data & Services Management, P.O. Box 3707, MC 2H-65, Seattle, WA 98124-2207; phone: 206-544-5000, extension 1; fax: 206-766-5680; Internet: https://www.myboeingfleet.com.

(4) You may review copies of the referenced service information at the FAA, Transport Airplane Directorate, 1601 Lind Avenue SW., Renton, WA. For information on the availability of this material at the FAA, call 425-227-1221.

(5) You may also review copies of the service information that is incorporated by reference at the National Archives and Records Administration (NARA). For information on the availability of this material at an NARA facility, call 202-741-6030, or go to http://www.archives.gov/federal-register/cfr/ibr-locations.html.

Issued in Renton, Washington, on October 9, 2012.
Ali Bahrami,
Manager, Transport Airplane Directorate, Aircraft Certification Service.

[FR Doc. 2012-25672 Filed 10-22-12; 8:45 am]

BILLING CODE 4910-13-P